FEDERAL COMMUNICATIONS COMMISSION

47 CFR Part 73

[DA 02-1687, MB Docket No. 02-94, RM-10423]

Digital Television Broadcast Service; Athens, GA

AGENCY: Federal Communications Commission.

ACTION: Final rule.

SUMMARY: The Commission, at the request of Georgia Public Telecommunications Commission, licensee of noncommercial station WGTV-TV, substitutes DTV channel *12 for DTV channel *22 at Athens, Georgia. See 17 FCC Rcd 755 (2002). DTV channel *12 can be allotted to Athens in compliance with the principle community coverage requirements of Section 73.625(a) at reference coordinates 33-48-18 N. and 84-08-40 W. with a power of 16, HAAT of 305 meters and with a DTV service population of 3211 thousand. With is action, this proceeding is terminated.

DATES: Effective September 3, 2002.

FOR FURTHER INFORMATION CONTACT: Pam Blumenthal, Media Bureau, (202) 418-1600.

SUPPLEMENTARY INFORMATION: This is a synopsis of the Commission's Report and Order, MB Docket No. 02-94, adopted July 15, 2002, and released July 19, 2002. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC, 20554, telephone 202-863-2893, facsimile 202-863-2898, or via e-mail qualexint@aol.com.

List of Subjects in 47 CFR Part 73

Digital television broadcasting, Television.

Part 73 of Title 47 of the Code of Federal Regulations is amended as follows:

PART 73—[AMENDED]

1. The authority citation for part 73 continues to read as follows:

Authority: 47 U.S.C. 154, 303, 334 and 336.

§ 73.622 [Amended]

2. Section 73.622(b), the Table of Digital Television Allotments under Georgia, is amended by removing DTV channel *22 and adding DTV channel *12 at Athens.

Federal Communications Commission.
Barbara A. Kreisman,
Chief, Video Division, Media Bureau.

[FR Doc. 02-20186 Filed 8-8-02; 8:45 am]

BILLING CODE 6712-01-P